DEPARTMENT OF AGRICULTURE

Forest Service

Forestry Research Advisory Council

AGENCY: Forest Service, USDA.

ACTION: Notice of meeting.

SUMMARY: The Forestry Research Advisory Council (FRAC) will meet in Washington, DC. The Council is required by Section 1441 of the Agriculture and Food Act of 1981 (Act) and operates in compliance with the Federal Advisory Committee Act (FACA). Additional information concerning FRAC, including the meeting summary/minutes, can be found by visiting the FRAC's Web site at: http://www.fs.fed.us/research/about/forestry-research-council/.

DATES: The meeting will be held on the following dates and time:

• Tuesday, October 20, 2015 from 8:30 a.m. to 4:30 p.m. PDT

• Wednesday, October 21, 2015 from 8:30 a.m. to 4:30 p.m. PDT

All FRAC meetings are subject to cancellation. For updated status of the meeting prior to attendance, please contact the person listed under FOR FURTHER INFORMATION CONTACT.

ADDRESSES: The meeting will be held in the Roosevelt Conference Room, Yates Building, USDA Forest Service—Washington Office, 201 14th Street SW., Washington, DC 20250. Written comments may be submitted as described under SUPPLEMENTARY INFORMATION. All comments, including names and addresses when provided, are placed in the record and are available for public inspection and copying. The public may inspect comments received at USDA Forest Service—Washington Office, 201 14th Street SW., Washington, DC 20250. Please call ahead at 202-205-1665 to facilitate entry into the building.

FOR FURTHER INFORMATION CONTACT: W. Stephen Hart, Designated Federal Official, Forestry Research Advisory Council, Research and Development, USDA Forest Service, by phone at 202-205-0844, or by email at shart@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Discuss current and emerging forestry and natural resources research issues;

2. Provide a presentation and discussion on budget outlooks and program priorities of the Forest Service Research and Development and USDA National Institute of Food and Agriculture, including the McIntire-Stennis Cooperative Forestry Research Program; and

3. Discuss anticipated matters that may include USDA engagement in natural resources-related STEM research and education, partnerships with other agencies, indisciplinary research, research in urban forestry, wood products development, and landscape-scale forest management.

The meeting is open to the public. The agenda will include time for people to make oral statements of three minutes or less. Individuals wishing to make an oral statement should request in writing by October 14, 2015, to be scheduled on the agenda. Anyone who would like to bring related matters to the attention of the Council may file written statements with the Council's staff before or after the meeting. Written comments and time requests for oral comments must be sent to W. Stephen Hart, Designated Federal Official, Forestry Research Advisory Council, Research and Development, USDA Forest Service, Mail Stop 1120, 1400 Independence Avenue SW., Washington, DC, 20250-1120, or by fascimile at 202-401-1189, or by email at shart@fs.fed.us.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: September 11, 2015.
Cynthia D. West,
Associate Deputy Chief Research and Development.

[FR Doc. 2015-23562 Filed 9-18-15; 8:45 am]

BILLING CODE 3411-15-P